CONSUMER PRODUCT SAFETY COMMISSION

Public Availability of Consumer Product Safety Commission FY 2021 Service Contract Inventory, FY 2020 Service Contract Inventory Analysis, and Plan for FY 2021 Inventory Analysis

AGENCY: Consumer Product Safety Commission.

ACTION: Notice.

SUMMARY: The Consumer Product Safety Commission (CPSC), in accordance with Division C of the Consolidated Appropriations Act, 2010, is announcing the availability of CPSC's service contract inventory for fiscal year (FY) 2021, CPSC's FY 2020 service contract inventory analysis, and the plan for analyzing CPSC's FY 2021 service contract inventory.

FOR FURTHER INFORMATION CONTACT: Eddie Ahmad, Director, Procurement Services, U.S. Consumer Product Safety Commission, 4330 East West Highway, Bethesda, MD 20814. Telephone: 301-504-7884; email: aahmad@cpsc.gov.

SUPPLEMENTARY INFORMATION: Section 743(a) of the Consolidated Appropriations Act, 2010 (Consolidated Appropriations Act), 31 U.S.C. 501 note, titled “Service Contract Inventory Requirement,” requires agencies to submit to the Office of Management and Budget (OMB), an annual inventory of service contracts awarded or extended through the exercise of an option on or after April 1, 2010. The contents of the inventory must include:

(A) A description of the services purchased by the agency and the role the services played in achieving agency objectives, regardless of whether such a purchase was made through a contract or task order.

(B) The organizational component of the agency that is administering the contract, and the component whose requirements are being met through contractor performance of the service.

(C) The total dollar amount obligated for services under the contract and the funding source for the contract.

(D) The total dollar amount invoiced for services under the contract.

(E) The contract type and date of award.

(F) The name of the contractor and place of performance.

(G) The number and work location of contractor and subcontractor employees, expressed as full-time equivalents for direct labor, compensated under the contract.

(H) Whether the contract is a personal services contract.

(I) Whether the contract was awarded on a noncompetitive basis, regardless of date of award.

Section 743(c) of the Consolidated Appropriations Act, 31 U.S.C. 501 note, requires agencies to “publish in the Federal Register a notice that the inventory is available to the public.” OMB also requires that agencies submit an analysis of the previous year's inventory and a plan for how the agency will analyze the current year's inventory.

Consequently, through this notice, we are announcing that the CPSC's service contract inventory for FY 2021 is available to the public.¹ The inventory provides information on service contract actions that the CPSC made in Fiscal Year (FY) 2021 per the Federal Acquisition Regulation (FAR) requirements in FAR part 4.1703. The information is organized by function to show how contracted resources are distributed throughout the CPSC. OMB posted a consolidated government-wide Service Contract Inventory for FY 2021 at https://www.acquisition.gov/service-contract-inventory. You can access the CPSC's inventories by limiting the “Contracting Agency Name” field on each spreadsheet to “Consumer Product Safety Commission.”

¹ On October 31, 2023, the Commission voted (4-0) to publish this notice.

Additionally, CPSC's Division of Procurement Services has posted CPSC's FY 2020 service contract inventory analysis and the plan for analyzing the FY 2021 inventory on CPSC's website at the following link: https://www.cpsc.gov/Agency-Reports/Service-Contract-Inventory.

Alberta Mills,
Secretary, Consumer Product Safety Commission.

[FR Doc. 2023-24570 Filed 11-6-23; 8:45 am]

BILLING CODE 6355-01-P